FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Exemption of State-Owned Properties Under Self-Insurance Plan.

Type of Information Collection: Extension of a currently approved collection.

OMB Number: 3067-0127.

Abstract: Section 102(C) of the Flood Disaster Protection Act of 1973 enables The Federal Insurance Administration (FIA) to grant a State having an adequate plan of self-insurance for its State-owned buildings an exemption from the insurance purchase requirements of the 1973 Act. 44 CFR Part 75 establishes standards with respect to the Administrator's determinations that a State's plan of self-insurance is adequate and satisfactory for the purpose of the Act, from the requirement of purchasing flood insurance coverage, for State-owned structures and their contents in areas identified by the Administrator as A, AO, AH, A1-A30, AE, A99, M, V, VO, V1-V30, VE and E zones, in which the sale of insurance has been made available, and to establish the procedures by which a State may request exemption under Section 102 (C).

Affected Public: States, Local, or Tribal Government.

Number of Respondents: 20.

Estimated Time per Respondent: 5 hours.

Estimated Total Annual Burden Hours: 100 hours.

Comments: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Branch, Information Resources Management Division, Information Technology Services Directorate, Federal Emergency Management Agency, 500 C Street, SW., Room 316, Washington, DC 20472, telephone number (202) 646-2625, facsimile number (202) 646-3347, or e-mail address: informationcollection@fema.gov.

Dated: October 30, 2002.
Edward W. Kernan,
Division Director, Information Resources Management Division, Information Technology Services Directorate.

[FR Doc. 02-28619 Filed 11-8-02; 8:45 am]

BILLING CODE 6718-01-P